DEPARTMENT OF THE INTERIOR

Bureau of Indian Affairs

[134A2100DD.AAK4004601.A0N5A2020]

Renewal of Agency Information Collection for Grazing Permits

AGENCY: Bureau of Indian Affairs, Interior.

ACTION: Notice of submission to OMB.

SUMMARY: In compliance with the Paperwork Reduction Act of 1995, the Bureau of Indian Affairs is seeking comments on the renewal of Office of Management and Budget (OMB) approval for the collection of information for Grazing Permits authorized by OMB Control Number 1076-0157. This information collection expires July 31, 2013.

DATES: Interested persons are invited to submit comments on or before August 30, 2013.

ADDRESSES: You may submit comments on the information collection to the Desk Officer for the Department of the Interior at the Office of Management and Budget, by facsimile to (202) 395-5806 or you may send an email to: OIRA_Submission@omb.eop.gov. Please send a copy of your comments to David Edington, Office of Trust Services, 1849 C Street NW., Mail Stop 4637 MIB, Washington, DC 20240; facsimile: (202) 219-0006; email: David.Edington@bia.gov.

FOR FURTHER INFORMATION CONTACT: David Edington, (202) 513-0886. You may review the information collection request online at http://www.reginfo.gov. Follow the instructions to review Department of the Interior collections under review by OMB.

SUPPLEMENTARY INFORMATION:

I. Abstract

The Bureau of Indian Affairs (BIA) is seeking renewal of the approval for the information collection conducted under 25 CFR part 166, Grazing Permits, related to grazing on tribal land, individually-owned Indian land, or government land. This information collection allows BIA to obtain the information necessary to determine whether an applicant is eligible to acquire, modify, or assign a grazing permit on trust or restricted lands and to allow a successful applicant to meet bonding requirements. Some of this information is collected on forms. No third party notification or public disclosure burden is associated with this collection.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0157.

Title: Grazing Permits, 25 CFR 166.

Brief Description of Collection: Submission of this information allows individuals or organizations to acquire or modify a grazing permit on tribal land, individually-owned Indian land, or government land and to meet bonding requirements. Some of this information is collected on the following forms: Form 5-5423—Performance Bond, Form 5-5514—Bid for Grazing Privileges, Form 5-5515—Grazing Permit, Form 5-5516—Grazing Permit for Organized Tribes, Form 5-5517—Free Grazing Permit, Form 5-5519—Cash Penal Bond, Form 5-5520—Power of Attorney, Form 5-5521—Certificate and Application for On-and-Off Grazing Permit, Form 5522—Modification of Grazing Permit, Form 5-5523—Assignment of Grazing Permit, Form 5-5524—Application for Allocation of Grazing Privileges, Form 5-5525—Authority to Grant Grazing Privileges on Allotted Lands, Form 5-5528—Livestock Crossing Permit, and Form 5-5529—Removable Range Improvement Records. Response is required to obtain or retain a benefit.

Form 5-5527—Stock Counting Record is still in use but not considered to be an information collection as the program has determined the information for these forms to be available from other forms, found in existing records, or generated by BIA staff.

Type of Review: Revision of currently approved collection.

Respondents: Tribes, tribal organizations, individual Indians, and non-Indian individuals and entities.

Number of Respondents: 2,700 individual Indian allottee landowners, tribes, tribal organizations, and other individuals and entities.

Number of Responses: 5,715.

Estimated Time per Response: 20 minutes to 1 hour, on average.

Estimated Total Annual Hour Burden: 1,983 hours.

Estimated Total Annual Non-Hour Dollar Cost: $0.

Dated: July 25, 2013.
John Ashley,
Acting Assistant Director for Information Resources.

[FR Doc. 2013-18401 Filed 7-30-13; 8:45 am]

BILLING CODE 4310-4J-P